DEPARTMENT OF HEALTH AND HUMAN SERVICES

National Institutes of Health

Center for Scientific Review; Cancellation of Meeting

Notice is hereby given of the cancellation of the Center for Scientific Review Special Emphasis Panel, February 24, 2016, 10:00 a.m. to February 24, 2016, 5:00 p.m., National Institutes of Health, 6701 Rockledge Drive, Bethesda, MD 20892, which was published in the Federal Register on January 26, 2016, 81 FR 4318.

The meeting is cancelled due to the reassignment of applications.

Dated: February 1, 2016.
Anna Snouffer,
Deputy Director, Office of Federal Advisory Committee Policy.

[FR Doc. 2016-02184 Filed 2-4-16; 8:45 am]

BILLING CODE 4140-01-P